ENVIRONMENTAL PROTECTION AGENCY

[FRL-6850-9]

Meeting of the Small Community Advisory Subcommittee

AGENCY: Environmental Protection Agency (EPA).

ACTION: Notice.

SUMMARY: The Small Community Advisory Subcommittee will meet on August 29, 2000, in Washington, DC from 3-5 pm EDT.

The Small Community Advisory Subcommittee was established by the U.S. Environmental Protection Agency as a standing subcommittee of the Local Government Advisory Committee. The August meeting will focus on the panel's comments on the proposed National Primary Drinking Water Standard for Arsenic.

The Committee will hear comments from the public between 3 p.m. and 3:05 p.m. on August 29, 2000. Each individual or organization wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. This meeting will be conducted by telephone and only a limited number of lines are available. Members of the public are requested to call the DFO at the number listed below if planning to attend so that arrangements can be made to comfortably accommodate attendees as much as possible. However, seating and call-in numbers will be allocated on a first come, first serve basis.

DATES: The meeting will begin at 3 pm on Tuesday, August 29 and conclude no later than 5 p.m. on the same day.

ADDRESSES: The meetings will be held at the EPA Office located at 1200 Pennsylvania Ave. NW, Washington, DC in room 3428 Ariel Rios North.

Requests for Minutes and other information can be obtained by writing the DFO at 1200 Pennsylvania Ave., NW (1306A), Washington, DC 20460.

FOR FURTHER INFORMATION CONTACT: The DFO for this Subcommittee is Steven Wilson. He is the point of contact for information concerning any Subcommittee matters and can be reached by calling (202) 564-3646.

Dated: July 31, 2000.
Steven Wilson,
Designated Federal Officer, Small Community Advisory Subcommittee.

[FR Doc. 00-20730 Filed 8-15-00; 8:45 am]

BILLING CODE 6560-50-P